DEPARTMENT OF THE INTERIOR

National Park Service

[NPS-WASO-NAGPRA-NPS0035226; PPWOCRADN0-PCU00RP14.R50000]

Notice of Intent To Repatriate Cultural Items: San Francisco State University NAGPRA Program, San Francisco, CA

AGENCY: National Park Service, Interior.

ACTION: Notice.

SUMMARY: In accordance with the Native American Graves Protection and Repatriation Act (NAGPRA), the San Francisco State University NAGPRA Program intends to repatriate certain cultural items that meet the definition of unassociated funerary objects and that have a cultural affiliation with the Indian Tribes or Native Hawaiian organizations in this notice. The cultural items were removed from Sacramento County, CA.

DATES: Repatriation of the cultural items in this notice may occur on or after March 3, 2023.

ADDRESSES: Zay D. Latt, San Francisco State University, 1600 Holloway Avenue, Administration Building 5th Floor, ADM 562C, San Francisco, CA 94132, telephone (415) 405-3545, email nagpra@sfsu.edu.

SUPPLEMENTARY INFORMATION: This notice is published as part of the National Park Service's administrative responsibilities under NAGPRA. The determinations in this notice are the sole responsibility of the San Francisco State University NAGPRA Program. The National Park Service is not responsible for the determinations in this notice. Additional information on the determinations in this notice, including the results of consultation, can be found in the summary or related records held by the San Francisco State University NAGPRA Program.

Description

In 1953, cultural items were removed from archeological site CA-SAC-189 in Sacramento County, CA, by Leonard R. Butler and Harry T. Jones as part of archeological site documentation in an area along the American River. Noting evidence of earlier pothunting and disturbance due to cutting by the American River, during site documentation, Butler and Jones collected material cultural items from these disturbed areas. The items were stored in the San Francisco State College Anthropology Collection and subsequently became a part of the Treganza Anthropology Museum's (TAM) archeological collections at San Francisco State University. At an unknown date, a single test unit of unknown size was excavated at site CA-SAC-189, and in 1959, the material cultural items removed during the excavation were recorded and stored as part of the TAM archeological collections. Upon closure of the TAM in 2012, the items were transferred to the San Francisco State University NAGPRA Program. The 15 unassociated funerary objects are one lot each of green, yellow, brown, and blue tinted glass, one lot of glass fragments, one porcelain vessel fragment, one lot of “ironstone” vessel fragments, one lot of earthenware fragments with blue underglaze, one utility ware fragment with black glaze, one lot of square nails, one copper or brass chain, one lot of fancy glass vessel fragments, one pestle, one cooking rock, and one lot of obsidian.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological information, geographical information, oral tradition, and tribal expert opinion.

Determinations

Pursuant to NAGPRA and its implementing regulations, and after consultation with the appropriate Indian Tribes and Native Hawaiian organizations, the San Francisco State University NAGPRA Program has determined that:

• The 15 cultural items described above are reasonably believed to have been placed with or near individual human remains at the time of death or later as part of the death rite or ceremony and are believed, by a preponderance of the evidence, to have been removed from a specific burial site of a Native American individual.

• There is a relationship of shared group identity that can be reasonably traced between the cultural items and the Chicken Ranch Rancheria of Me-Wuk Indians of California; Shingle Springs Band of Miwok Indians, Shingle Springs Rancheria (Verona Tract), California; United Auburn Indian Community of the Auburn Rancheria of California; and the Wilton Rancheria, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

If no additional requests are received, repatriation of the cultural items in this notice to Wilton Rancheria may occur on or after March 3, 2023. If competing requests for repatriation are received, the San Francisco State University NAGPRA Program must determine the most appropriate requestor prior to repatriation. Requests for joint repatriation of the cultural items are considered a single request and not competing requests. The San Francisco State University NAGPRA Program is responsible for sending a copy of this notice to the Indian Tribes identified in this notice.

Authority: Native American Graves Protection and Repatriation Act, 25 U.S.C. 3003, and the implementing regulations, 43 CFR § 10.8, § 10.10, and § 10.14.

Dated: January 25, 2023.
Melanie O'Brien,
Manager, National NAGPRA Program.

[FR Doc. 2023-02067 Filed 1-31-23; 8:45 am]

BILLING CODE 4312-52-P